DEPARTMENT OF HEALTH AND HUMAN SERVICES

Centers for Medicare & Medicaid Services

[Document Identifier: CMS-10220 and CMS-10224]

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: New collection; Title of Information Collection: Provider Enrollment Chain and Ownership System (PECOS) Web Security Consent Form; Form No.: CMS-10220 (OMB# 0938-NEW); Use: In establishing a web based application process, we allow providers and suppliers the ability to enroll in the Medicare program via the Internet. For these applicants, no security consent form is needed to enroll or make a change in their Medicare enrollment information. These applicants receive complete access to their own enrollments through the web based version of the Provider Enrollment, Chain and Ownership System (PECOS).

In order to allow a provider or supplier to delegate the Medicare credentialing process to another individual or organization, it is necessary to establish a Security Consent Form for those providers and suppliers who choose to have another individual or organization access their enrollment information and complete enrollments on their behalf. These users could consist of administrative staff, independent contractors, or credentialing departments and are represented as a User group. User groups and its members must request access to enrollment data through a Security Consent Form. The security consent form replicates business service agreements between Medicare applicants and organizations providing enrollment services.

We have revised the information collection request since the publication of the 60-day Federal Register notice (72 FR 13793). Rather than the four original forms, we are proposing only two different versions of the Security Consent Form. The form, once signed, mailed and approved, grants a user group or its member's access to all current and future enrollment data for the Medicare provider. The user group administrator, within the user group, assigns to each member of the group, a security role that will define their levels of functionality within PECOS via the web for an individual or organization. Frequency: Reporting—On occasion; Affected Public: Business or other for-profit, not-for-profit institutions, individuals or households; Number of Respondents: 177,500; Total Annual Responses: 177,500; Total Annual Hours: 44,375.

2. Type of Information Collection Request: New collection; Title of Information Collection: HCPCS Level II Code Modification Request Process; Use: For Medicare and other health insurance programs to ensure that claims are processed in an orderly and consistent manner, standardized coding systems are essential. The Healthcare Common Procedure Coding System (HCPCS) Level I1 Code Set is one of the standard code sets used for this purpose. Level I1 of the HCPCS, also referred to as alpha-numeric codes, is a standardized coding system that is used primarily to identify products, supplies, and services not included in the Current Procedural Terminology (CPT) codes, such as ambulatory services and durable medical equipment, prosthetics, orthotics, and supplies (DMEPOS) when used in the home or outpatient setting. As technology evolves and new products are developed, there are continuous changes to the HCPCS code set. Modifications to the HCPCS are initiated via application form submitted by any interested stakeholder. These applications have been received on an on-going basis with an annual deadline for each cycle. In October 2003, the Secretary of Health and Human Services delegated CMS authority to maintain and distribute HCPCS Level I1 Codes. As a result, the National Panel was delineated and CMS continued with the decision-making process under its current structure, the CMS HCPCS Workgroup.

CMS' Council on Technological Innovation (CTI) has instituted a number of improvements to the HCPCS process. Specific process refinements include public notification of CMS' preliminary decisions, and a new opportunity to respond to CMS' preliminary decisions at a public meeting before a final decision is reached by the workgroup. CMS has streamlined the form into a user-friendly application. The content of the material is the same, but the questions have been refined. CMS is also preparing a system of records (SOR) notice.

Applications are received, and distributed to all workgroup members. Workgroup members review the material and provide comments at the HCPCS workgroup meetings. Discussions are posted to CMS' HCPCS Web site. Final decisions are released to the applicant via letter; and all resulting modifications to the HCPCS codes are reflected on the HCPCS update. Form Number: CMS-10224 (OMB#: 0938-New); Frequency: Reporting: Occasionally; Affected Public: Business or other for-profit and State, Local or Tribal Government; Number of Respondents: 300; Total Annual Responses: 300; Total Annual Hours: 3,300.

To obtain copies of the supporting statement and any related forms for the proposed paperwork collections referenced above, access CMS Web Site address at: http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on December 10, 2007. OMB Human Resources and Housing Branch, Attention: Carolyn Lovett, New Executive Office Building, Room 10235, Washington, DC 20503, Fax Number: (202) 395-6974.

Dated: October 26, 2007.
Michelle Shortt,
Director, Regulations Development Group, Office of Strategic Operations and Regulatory Affairs.

[FR Doc. 07-5480 Filed 11-8-07; 8:45 am]

BILLING CODE 4120-01-P